OFFICE OF PERSONNEL MANAGEMENT

Excepted Service

AGENCY: Office of Personnel Management.

ACTION: Notice.

SUMMARY: This gives notice of positions established or revoked under Schedule C in the excepted service, as required by Civil Service Rule VI, Exceptions from the Competitive Service.

FOR FURTHER INFORMATION CONTACT: Pam Shivery, Acting Director, Washington Service Center, Employment Service (202) 606-1015.

SUPPLEMENTARY INFORMATION: The Office of Personnel Management published its last monthly notice updating appointing authorities established under the Excepted Service provisions of 5 CFR 213 on September 20, 2000 (64 FR 56966). Individual authorities established under Schedule C between August 1, and August 31, 2000, appear in the listing below. Future notices will be published on the fourth Tuesday of each month, or as soon as possible thereafter. A consolidated listing of all authorities as of June 30 will also be published.

Schedule C

The following Schedule C authorities were established during August 2000.

Department of Agriculture

Confidential Assistant to the Administrator, Farm Services Agency. Effective August 4, 2000.

Staff Assistant to the Administrator, Farm Service Agency. Effective August 4, 2000.

Confidential Assistant to the Administrator, Rural Housing Service. Effective August 11, 2000.

Confidential Assistant to the Under Secretary for Food Safety. Effective August 11, 2000.

Confidential Assistant to the Administrator, Foreign Agricultural Service. Effective August 14, 2000.

Confidential Assistant to the Administrator, Rural Utilities Service, Office of the Administrator. Effective August 28, 2000.

Staff Assistant to the Administrator. Effective August 31, 2000.

Department of Commerce

Director of Communications to the Under Secretary for Technology. Effective August 10, 2000.

Executive Assistant to the Secretary of Commerce. Effective August 10, 2000.

Department of Defense

Special Assistant to the Deputy Secretary of Defense. Effective August 15, 2000.

Assistant for Plans and Policy (International and Security Affairs) to the Secretary of Defense. Effective August 21, 2000.

Staff Assistant to the Secretary of Defense (International Security Affairs). Effective August 21, 2000.

Department of Education

Confidential Assistant to the Director, White House Liaison. Effective August 2, 2000.

Special Assistant to the Deputy Assistant Secretary, Policy Planning and Innovation. Effective August 16, 2000.

Director, Scheduling and Briefing Staff to the Chief of Staff. Effective August 29, 2000.

Department of Energy

Director of Communications to the Assistant Secretary for Energy Efficiency. Effective August 10, 2000.

Daily Scheduler to the Director, Office of Scheduling and Advance. Effective August 10, 2000.

Deputy Director, Office of the Consumer Information to the Director, Office of Consumer Information. Effective August 15, 2000.

Special Assistant to the Director of Policy. Effective August 21, 2000.

Department of Health and Human Services

Director of Scheduling to the Chief of Staff, Office of the Secretary. Effective August 16, 2000.

Deputy Director of Scheduling to the Director of Scheduling. Effective August 18, 2000.

Confidential Assistant (Scheduling) to the Director of Scheduling. Effective August 21, 2000.

Congressional Liaison Specialist to the Deputy Assistant Secretary for Legislation (Congressional Liaison). Effective August 23, 2000.

Department of Housing and Urban Development

Special Assistant to the Special Assistant/Director, Interfaith Community Outreach. Effective August 18, 2000.

Department of the Interior

Administrative Aide (Office Automation) to the Director Scheduling Office. Effective August 4, 2000.

Department of Labor

Special Assistant to the Director of Womens's Bureau. Effective August 10, 2000.

Department of State

Special Assistant to the Director, White House Liaison. Effective August 11, 2000.

Department of Transportation

Special Assistant to the Assistant to the Secretary and Director of Public Affairs. Effective August 4, 2000.

Department of the Treasury

Advisor to the Secretary and Director of Strategic Planning, Scheduling and Advance to the Chief of Staff. Effective August 2, 2000.

Deputy Director for Strategic Planning, Scheduling and Advance to the Advisor to the Secretary and Director, Strategic Planning, Scheduling and Advance. Effective August 2, 2000.

Special Assistant to the Director of Strategic Planning, Scheduling and Advance. Effective August 30, 2000.

Federal Communications Commission

Special Assistant for Policy and Communications to the Director, Office of Media Relations. Effective August 10, 2000.

Authority: 5 U.S.C. 3301 and 3302; E.O. 10577, 3 CFR 1954-1958 Comp., p. 218.

Office of Personnel Management.
Janice R. Lachance,
Director.

[FR Doc. 00-25909 Filed 10-6-00; 8:45 am]

BILLING CODE 6325-01-P